DEPARTMENT OF ENERGY

Federal Energy Regulatory Commission

Combined Notice of Filings #1

Take notice that the Commission received the following electric rate filings:

Docket Numbers: ER10-2732-019; ER10-2733-019; ER10-2734-019; ER10-2736-019; ER10-2737-019; ER10-2741-019; ER10-2749-020; ER10-2752-019; ER12-2492-015; ER12-2493-015; ER12-2494-015; ER12-2495-015; ER12-2496-015; ER16-2455-009; ER16-2456-009; ER16-2457-009; ER16-2459-009; ER18-1404-005; ER19-2096-002.

Applicants: Emera Energy Services, Inc., Emera Energy LNG, LLC, Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10 LLC, Emera Energy Services Subsidiary No. 11 LLC, Emera Energy Services Subsidiary No. 12 LLC, Emera Energy Services Subsidiary No. 13 LLC, Emera Energy Services Subsidiary No. 15 LLC, Emera Energy U.S. Subsidiary No. 1, Inc., Emera Energy U.S. Subsidiary No. 2, Inc., NS Power Energy Marketing Inc.

Description: Triennial Market Power Update for Southeast Region of the Emera Entities.

Filed Date: 12/3/20.

Accession Number: 20201203-5147.

Comments Due: 5 p.m. ET 2/1/20.

Docket Numbers: ER20-3025-001.

Applicants: GridLiance High Plains LLC.

Description: Tariff Amendment: GridLiance High Plains LLC Deficiency Filing ER20-3025 to be effective 11/29/2020.

Filed Date: 12/4/20.

Accession Number: 20201204-5133.

Comments Due: 5 p.m. ET 12/28/20.

Docket Numbers: ER21-292-001.

Applicants: Oakland Power Company LLC.

Description: Tariff Amendment: Deferral of Commission Action to Permit Ongoing Settlement Discussions to be effective 12/31/9998.

Filed Date: 12/4/20.

Accession Number: 20201204-5118.

Comments Due: 5 p.m. ET 12/28/20.

Docket Numbers: ER21-562-000.

Applicants: Leaf River Cellulose, LLC.

Description: Tariff Cancellation: Notice of Electric Tariff Cancellation to be effective 12/31/2020.

Filed Date: 12/3/20.

Accession Number: 20201203-5135.

Comments Due: 5 p.m. ET 12/24/20.

Docket Numbers: ER21-563-000.

Applicants: Georgia-Pacific Consumer Operations LLC, Savannah.

Description: Tariff Cancellation: Notice of Electric Tariff Cancellation to be effective 12/31/2020.

Filed Date: 12/3/20.

Accession Number: 20201203-5137.

Comments Due: 5 p.m. ET 12/24/20.

Docket Numbers: ER21-564-000.

Applicants: Mid-Atlantic Interstate Transmission, LLC, PJM Interconnection, L.L.C.

Description: § 205(d) Rate Filing: MAIT submits Two ECSAs, SA Nos. 5778 and 5779 to be effective 2/2/2021.

Filed Date: 12/3/20.

Accession Number: 20201203-5141.

Comments Due: 5 p.m. ET 12/24/20.

Docket Numbers: ER21-565-000.

Applicants: Duke Energy Carolinas, LLC.

Description: § 205(d) Rate Filing: DEC-PMPA NITSA SA 355 to be effective 1/1/2021.

Filed Date: 12/3/20.

Accession Number: 20201203-5150.

Comments Due: 5 p.m. ET 12/24/20.

Docket Numbers: ER21-566-000.

Applicants: NorthWestern Corporation.

Description: § 205(d) Rate Filing: SA 902—NITSA with Montana State University to be effective 1/1/2021.

Filed Date: 12/4/20.

Accession Number: 20201204-5000.

Comments Due: 5 p.m. ET 12/28/20.

Docket Numbers: ER21-567-000.

Applicants: Northern Indiana Public Service Company LLC.

Description: § 205(d) Rate Filing: Filing of a CIAC Agreement to be effective 12/5/2020.

Filed Date: 12/4/20.

Accession Number: 20201204-5041.

Comments Due: 5 p.m. ET 12/28/20.

Docket Numbers: ER21-568-000.

Applicants: Lanyard Power Holdings, LLC.

Description: § 205(d) Rate Filing: Lanyard Power Holdings, LLC Notice of Succession to be effective 11/13/2020.

Filed Date: 12/4/20.

Accession Number: 20201204-5044.

Comments Due: 5 p.m. ET 12/28/20.

Docket Numbers: ER21-569-000.

Applicants: Northern Indiana Public Service Company LLC.

Description: § 205(d) Rate Filing: Filing of a CIAC Agreement to be effective 12/5/2020.

Filed Date: 12/4/20.

Accession Number: 20201204-5045.

Comments Due: 5 p.m. ET 12/28/20.

Docket Numbers: ER21-570-000.

Applicants: Northern Indiana Public Service Company LLC.

Description: § 205(d) Rate Filing: Filing of a CIAC Agreement to be effective 2/3/2021.

Filed Date: 12/4/20.

Accession Number: 20201204-5046.

Comments Due: 5 p.m. ET 12/28/20.

Docket Numbers: ER21-571-000.

Applicants: PJM Interconnection, L.L.C.

Description: § 205(d) Rate Filing: Amendment to WMPA, Service Agreement No. 4766; Queue No. AB1-124 to be effective 8/7/2017.

Filed Date: 12/4/20.

Accession Number: 20201204-5057.

Comments Due: 5 p.m. ET 12/28/20.

Docket Numbers: ER21-572-000.

Applicants: Southern California Edison Company.

Description: § 205(d) Rate Filing: GIA & DSA Mammoth-Pacific, L.P. SA Nos. 1128-1129 to be effective 12/7/2020.

Filed Date: 12/4/20.

Accession Number: 20201204-5067.

Comments Due: 5 p.m. ET 12/28/20.

Docket Numbers: ER21-573-000.

Applicants: Chalk Point Power, LLC.

Description: Baseline eTariff Filing: Application for Market-Based Rate Authorization to be effective 2/3/2021.

Filed Date: 12/4/20.

Accession Number: 20201204-5089.

Comments Due: 5 p.m. ET 12/28/20.

Docket Numbers: ER21-574-000.

Applicants: Dickerson Power, LLC.

Description: Baseline eTariff Filing: Application for Market-Based Rate Authorization to be effective 2/3/2021.

Filed Date: 12/4/20.

Accession Number: 20201204-5090.

Comments Due: 5 p.m. ET 12/28/20.

Docket Numbers: ER21-575-000.

Applicants: Lanyard Power Marketing, LLC.

Description: Baseline eTariff Filing: Application for Market-Based Rate Authorization to be effective 2/3/2021.

Filed Date: 12/4/20.

Accession Number: 20201204-5094.

Comments Due: 5 p.m. ET 12/28/20.

Docket Numbers: ER21-576-000.

Applicants: Southern California Edison Company.

Description: § 205(d) Rate Filing: Letter Agreement SEGS Expansion Hybrid Project SA No. 259 to be effective 12/5/2020.

Filed Date: 12/4/20.

Accession Number: 20201204-5095.

Comments Due: 5 p.m. ET 12/28/20.

Docket Numbers: ER21-577-000.

Applicants: Morgantown Power, LLC.

Description: Baseline eTariff Filing: Application for Market-Based Rate Authorization to be effective 2/3/2021.

Filed Date: 12/4/20.

Accession Number: 20201204-5092.

Comments Due: 5 p.m. ET 12/28/20.

Docket Numbers: ER21-578-000.

Applicants: Morgantown Station, LLC.

Description: Baseline eTariff Filing: Application for Market-Based Rate Authorization to be effective 2/3/2021.

Filed Date: 12/4/20.

Accession Number: 20201204-5093.

Comments Due: 5 p.m. ET 12/28/20.

Docket Numbers: ER21-579-000.

Applicants: Lanyard Power Holdings, LLC.

Description: Tariff Cancellation: Notice of Cancellation of Tariffs to be effective 12/31/9998.

Filed Date: 12/4/20.

Accession Number: 20201204-5110.

Comments Due: 5 p.m. ET 12/28/20.

Docket Numbers: ER21-580-000.

Applicants: Basin Electric Power Cooperative.

Description: § 205(d) Rate Filing: Basin Electric Amendment to Service Agreement No. 103 to be effective 10/29/2020.

Filed Date: 12/4/20.

Accession Number: 20201204-5111.

Comments Due: 5 p.m. ET 12/28/20.

Docket Numbers: ER21-581-000.

Applicants: Morgantown Station, LLC.

Description: § 205(d) Rate Filing: Proposed Morgantown Station Reactive Supply Service Tariff to be effective 12/31/9998.

Filed Date: 12/4/20.

Accession Number: 20201204-5112.

Comments Due: 5 p.m. ET 12/28/20.

Docket Numbers: ER21-582-000.

Applicants: Morgantown Power, LLC.

Description: § 205(d) Rate Filing: Proposed Morgantown Power Reactive Supply Service Tariff to be effective 12/31/9998.

Filed Date: 12/4/20.

Accession Number: 20201204-5113.

Comments Due: 5 p.m. ET 12/28/20.

Docket Numbers: ER21-583-000.

Applicants: Dickerson Power, LLC.

Description: § 205(d) Rate Filing: Proposed Dickerson Power Reactive Supply Service Tariff to be effective 12/31/9998.

Filed Date: 12/4/20.

Accession Number: 20201204-5114.

Comments Due: 5 p.m. ET 12/28/20.

Docket Numbers: ER21-584-000.

Applicants: Chalk Point Power, LLC.

Description: § 205(d) Rate Filing: Proposed Chalk Point Power Reactive Supply Service Tariff to be effective 12/31/9998.

Filed Date: 12/4/20.

Accession Number: 20201204-5117.

Comments Due: 5 p.m. ET 12/28/20.

Docket Numbers: ER21-585-000.

Applicants: Chalk Point Steam, LLC.

Description: § 205(d) Rate Filing: Proposed Chalk Point Steam Reactive Supply Service Tariff to be effective 12/31/9998.

Filed Date: 12/4/20.

Accession Number: 20201204-5119.

Comments Due: 5 p.m. ET 12/28/20.

Docket Numbers: ER21-586-000.

Applicants: PJM Interconnection, L.L.C.

Description: Tariff Cancellation: Notice of Cancellation of WMPA, SA No. 5295; Queue No. AB1-137 re: breach to be effective 11/30/2020.

Filed Date: 12/4/20.

Accession Number: 20201204-5132.

Comments Due: 5 p.m. ET 12/28/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 4, 2020.
Kimberly D. Bose,
Secretary.

[FR Doc. 2020-27130 Filed 12-9-20; 8:45 am]

BILLING CODE 6717-01-P